DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held November 29-30, 2005, in the Kenneth Eaton Conference Room 819 at the Lafayette Building, 811 Vermont Avenue, NW., Washington, DC. On November 30, 2005, the meeting will begin at 8:30 a.m. and conclude at approximately 4 p.m. The meeting is open to the public.

The purpose of the Committee is to advise the Secretary of Veterans Affairs on the administration of national cemeteries, soldiers' lots and plots, the selection of new national cemetery sites, the erection of appropriate memorials, and the adequacy of Federal burial benefits. The Committee will make recommendations to the Secretary regarding these activities.

On November 29, 2005, the Committee will receive updates on National Cemetery Administration (NCA) issues. In the afternoon, the Committee will tour the National Archives in Washington, DC. On November 30, 2005, the Committee will tour the White House and then reconvene for a business session, beginning at 1:30 p.m., which will include discussions of committee recommendations, future meeting sites, and potential agenda topics.

Time will not be allocated for receiving oral presentations from the public. Any member of the public wishing to attend the meeting should contact Mr. David Schettler, Designated Federal Officer, at (202) 273-5175. The Committee will accept written comments. Comments may be transmitted electronically to the Committee at dave.schettler@va.gov or mailed to the National Cemetery Administration (41C2), 810 Vermont Avenue, NW., Washington, DC 20420. In the public's communications with the Committee, the writers must identify themselves and state the organizations, associations, or persons they represent.

Dated: October 4, 2005.
By Direction of the Secretary.
E. Philip Riggin,
Committee Management Officer.

[FR Doc. 05-20447 Filed 10-11-05; 8:45 am]

BILLING CODE 8320-01-M